DEPARTMENT OF TRANSPORTATION

Pipeline and Hazardous Materials Safety Administration

[Docket No. PHMSA—PHMSA-2012-0137]

Pipeline Safety: Information Collection Activities

AGENCY: Pipeline and Hazardous Materials Safety Administration (PHMSA), DOT.

ACTION: Notice and request for comments.

SUMMARY: In accordance with the Paperwork Reduction Act of 1995, PHMSA invites comments on a new information collection (IC) to help determine the effectiveness of PHMSA's 811 Public Service Announcement (PSA) campaign. A Federal Register Notice with a 60-day comment period soliciting comments on this information collection was published on July 5, 2012 (77 FR 39797). No comments were received.

ADDRESSES: Send comments regarding the burden estimate, including suggestions for reducing the burden, to OMB, Attention: Desk Officer for PHMSA, 725 17th Street NW., Washington, DC 20503.

DATES: Comments must be submitted on or before October 22, 2012.

FOR FURTHER INFORMATION CONTACT: Angela Dow by telephone at 202-366-1246, by fax at 202-366-4566, or by mail at U.S. DOT, PHMSA, 1200 New Jersey Avenue SE., PHP-30, Washington, DC 20590-0001.

SUPPLEMENTARY INFORMATION: Title: U.S. Department of Transportation Pipeline and Hazardous Materials Safety Administration 811 Awareness Survey.

OMB Control Number: Pending.

Type of Request: New information collection.

Abstract: PHMSA is conducting a survey of awareness of 811 as the national “Call Before You Dig” toll-free telephone number, the importance of calling 811 before beginning an excavation project and the extent to which the newly-released PHMSA PSA is effective in raising awareness about this topic. This data is necessary to measure the effectiveness of the PSA campaign and plan future educational and outreach efforts.

Affected Public: All.

Estimated number of responses: 1,000.

Estimated annual burden hours: 120.

Frequency of collection: One time collection.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of the date of this notice's publication in the Federal Register.

Authority: The Paperwork Reduction Act of 1995; 44 U.S.C. Chapter 35, as amended; and 49 CFR 1:48.

Issued in Washington, DC, on September 18, 2012.
Jeffrey D. Wiese,
Associate Administrator for Pipeline Safety.

[FR Doc. 2012-23336 Filed 9-20-12; 8:45 am]

BILLING CODE 4910-60-P